DEPARTMENT OF THE INTERIOR

Bureau of Land Management

[LLNVS03000.L5101.ER0000. LVRWF1104400; NVN-089669; 11-08807; MO# 4500023114; TAS: 14X5017]

Notice of Intent To Prepare an Environmental Impact Statement for the Proposed Valley Electric Association Hidden Hills Transmission Project, Clark and Nye Counties, NV

AGENCY: Bureau of Land Management, Interior.

ACTION: Notice of Intent.

SUMMARY: In compliance with the National Environmental Policy Act of 1969, as amended, and the Federal Land Policy and Management Act of 1976, as amended, the Bureau of Land Management (BLM) Southern Nevada District, Las Vegas Field Office, intends to prepare an Environmental Impact Statement (EIS) and by this notice is announcing the beginning of the scoping process to solicit public comments and identify issues.

DATES: This notice initiates the public scoping process for the EIS. Comments on issues may be submitted in writing until December 12, 2011. The date(s) and location(s) of any scoping meetings will be announced at least 15 days in advance through local news media, newspapers, and the BLM Web site at: http://www.blm.gov/nv/st/en/fo/lvfo.html. Comments must be received prior to the close of the scoping period or 15 days after the last public meeting, whichever is later, to be included in the Draft EIS. We will provide additional opportunities for public participation upon publication of the Draft EIS.

ADDRESSES: You may submit comments related to the Valley Electric Association Hidden Hills Transmission Project by any of the following methods:

• E-mail: ValleyElec_HiddenHillsEIS@blm.gov.

• Fax: (702) 515-5010 (attention: Gregory Helseth).

• Mail: Gregory Helseth, BLM Southern Nevada District Office, 4701 North Torrey Pines Drive, Las Vegas, Nevada 89130-2301.

• In Person: At any EIS public scoping meeting.

Documents pertinent to this proposal may be examined at the BLM Southern Nevada District Office.

FOR FURTHER INFORMATION CONTACT: Gregory Helseth, Renewable Energy Project Manager, (702) 515-5173; or e-mail ValleyElec_HiddenHillsEIS@blm.gov. You may also use this contact information to request that your name be added to the project mailing list. Persons who use a telecommunications device for the deaf (TDD) may call the Federal Information Relay Service (FIRS) at (800) 877-8339 to contact the above individual during normal business hours. The FIRS is available 24 hours a day, 7 days a week, to leave a message or question with the above individual. You will receive a reply during normal business hours.

SUPPLEMENTARY INFORMATION: The applicant, Valley Electric Association (VEA), has requested a right-of-way authorization for the construction, operation, maintenance, and termination of transmission infrastructure improvements in Pahrump and Sandy Valleys to Jean, Nevada, and terminating at Eldorado Substation near McCullough Pass. The proposed project will support the delivery of 500 megawatts into the VEA transmission system through the development of a solar electric generating facility to be located on private land in Inyo County, California. The proposed improvements may also support the development of additional renewable resource generation facilities in Nevada.

The proposed transmission upgrades would consist of the following new or expanded facilities on BLM managed land:

• A new 10-acre Tap 230/500 kilovolt (kV) Substation (Tap Substation) located immediately northeast of the existing VEA 138 kV and VEA 230 kV transmission line alignments adjacent to Highway 160.

• Approximately 53.7 miles of new 500 kV single-circuit transmission line from the Tap Substation to the existing Eldorado Substation.

• Approximately 9.7 miles of new 230 kV single-circuit transmission line from the solar electric generating facility site in Inyo County, California to the new Tap Substation.

• Improvement of existing VEA facilities to accommodate the necessary interconnections at Pahrump Substation, Vista Substation, Gamebird Substation, Charleston Substation, and Eldorado Substation.

• Installation of a buried 9.3 mile, 12-inch natural gas pipeline, which would extend from the solar electric generating facility site in Inyo County, California, to the existing VEA 230 kV transmission line. From this location, a 36-inch line would turn southeast and continue 26 miles to where it intersects the existing Kern River Gas Transmission pipeline.

• Construction and operation of new and improved existing access roads along each of the proposed transmission alignments.

• Temporary work areas associated with construction activities, material storage, and staging.

The proposed transmission project is in conformance with the 1998 Las Vegas Resource Management Plan and does not require a land use plan amendment.

The purpose of the public scoping process is to ascertain the relevant issues that will influence the scope of the environmental analysis, including alternatives, and guide the process for developing the EIS. At present, the BLM has identified the following preliminary issues: threatened and endangered species, visual resource impacts (including visual effects to the Old Spanish Trail National Historic Trail), recreation impacts, socioeconomic effects, and connected and cumulative actions.

The BLM will utilize and coordinate the NEPA commenting process to satisfy the public involvement process for Section 106 of the National Historic Preservation Act (NHPA) (16 U.S.C. 470f) as provided for in 36 CFR 800.2(d)(3). Native American tribal consultations will be conducted in accordance with policy, and tribal concerns will be given due consideration, including impacts on Indian trust assets. Federal, State, and local agencies, as well as individuals, organizations, or tribes that may be interested or affected by the BLM's decision on this project are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Mary Jo Rugwell,
District Manager, Southern Nevada District Office.

[FR Doc. 2011-26192 Filed 10-7-11; 8:45 am]

BILLING CODE 4310-HC-P